ENVIRONMENTAL PROTECTION AGENCY

[EPA-HQ-OPPT-2005-0043; FRL-8184-7]

Agency Information Collection Activities; Submission to OMB for Review and Approval; Comment Request; Notification of Substantial Risk of Injury to Health and the Environment Under TSCA Sec. 8(e); EPA ICR; No. 0794.11, OMB No. 2070-0046

AGENCY: Environmental Protection Agency (EPA).

ACTION: Notice.

SUMMARY: In compliance with the Paperwork Reduction Act (44 U.S.C. 3501 et seq.), this document announces the submission of an Information Collection Request (ICR) to the Office of Management and Budget (OMB) for review and approval: (Notification of Substantial Risk of Injury to Health and the Environment Under TSCA Sec. 8(e); EPA ICR No. 0794.11, OMB No. 2070-0046. This is a request to renew an existing approved collection that is scheduled to expire on June 30, 2006. Under OMB regulations, the AGency may continue to conduct or sponsor the collection of information while this submission is pending at OMB. The ICR, which is abstracted below, describes the nature of the information collection activity and its expected burden and costs.

DATES: Additional comments may be submitted on or before July 17, 2006.

ADDRESSES: Submit your comments, referencing docket ID Number EPA-HQ-OPPT-2005-0043, to (1) EPA online using http://www.regulations.gov (our preferred method), by e-mail to oppt.ncic@epa.gov or by mail to: Document Control Office (DCO), Office of Pollution Prevention and Toxics (OPPT), Environmental Protection Agency, Mail Code; 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Acting Director, Environmental Assistance Division, Office of Pollution Prevention and Toxics, Environmental Protection Agency, Mailcode: 7408, 1200 Pennsylvania Ave., NW., Washington,DC 20460; telephone number: 202-554-1404; e-mail address: TSCA-Hotline@epa.gov.

SUPPLEMENTARY INFORMATION: EPA has submitted the following ICR to OMB for review and approval according to the procedures prescribed in 5 CFR 1320.12. On October 20, 2005 (70 FR 611240, EPA sought comments on this renewal ICR. EPA sought comments on this ICR pursuant to 5 CFR 1320.8(d). EPA received one comment during the comment period, which is addressed in the Supporting Statement of the ICR. Any comments related to this ICR should be submitted to EPA and OMB within 30 days of this notice.

EPA has established a public docket for this ICR under Docket ID No. EPA-HQ-OPPT-2005-0043, which is available for online viewing at http://www.epa.gov/edocket, or in person inspection at the OPPT Docket in the EPA Docket Center (EPA/DC), EPA West, Room B102, 1301 Constitution Ave., NW., Washington, DC. The EPA Docket Center Public Reading Room is open from 8 a.m. to 4:30 p.m., Monday through Friday, excluding legal holidays. The telephone number for the Reading Room is 202-566-1744, and the telephone number for the Pollution Prevention and Toxics Docket is 202-566-0280. Use http://www.regulations.gov to submit or view public comments, access the index listing of the contents of the public docket, and to access those documents in the public docket that are available electronically. Once in the system, select “search” then key in the docket ID number identified above.

EPA's policy is that public comments, whether submitted electronically or in paper, will be made available for public viewing in http://www.regulations.gov as EPA receives them and without change, unless the comment contains copyrighted material, CBI, or other information whose pubic disclosure is restricted by statute. When EPA identifies a comment containing copyrighted material, EPA will provide a reference to that material in the version of the comment that is placed in http://www.regulations.gov. The entire printed comment, including the copyrighted material, will be available in the public docket. Although identified as an item in the official docket, information claimed as CBI, as whose disclosure is otherwise restricted by statute, is not included in the official public docket, and will not be available for public viewing in http://www.regulations.gov. For further information about the electronic docket, go to http://www.regulations.gov.

Title: Notification of Substantial Risk of Injury to Health and the Environmental under TSCA Sec. 8(e).

ICR Status: This is a request to renew an existing approved collection. This ICR is scheduled to expire on June 30, 2006. Under OMB regulations, the Agency may continue to conduct or sponsor the collection of information while submission is pending at OMB.

Abstract: Section 8(e) of the Toxic Substances Control Act (TSCA) requires that any person who manufactures, imports, processes or distributes in commerce a chemical substance or mixture and which obtains information that reasonably supports the conclusion that such substance or mixture presents a substantial risk of injury to health or the environment must immediately inform EPA of such information. EPA routinely disseminates TSCA section 8(e) data it receives to other Federal agencies to provide information about newly discovered chemical hazards and risks.

Responses to the collection of information are mandatory (see 15 U.S.C. 2607(e)). Respondents may claim all or part of a notice as CBI. EPA will disclose information that is covered by a CBI claim only to the extent permitted by, and in accordance with, the procedures in 40 CFR part 2.

An agency may not conduct or sponsor, and a person is not required to respond to, a collection of information unless it displays a currently valid OMB control number. the OMB control numbers for EPA's regulations in title 40 of the CFR, after appearing in the Federal Register are listed in 40 CFR part 9 and included on the related collection instrument or form, if applicable.

Burden Statement: The annual public reporting and recordkeeping burden for this collection of information is estimated to average between 5 hours and 51 hours per response, depending upon the type of submission. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are companies that manufacture, import, process or distribute in commerce a chemical substance or mixture and which obtain information that reasonably supports the conclusion that such substance or mixture presents a substantial risk of injury to health or the environment.

Frequency of Collection: On occasion.

Estimated average number of responses for each respondent: 1.3.

Estimated No. of Respondents: 345.

Estimated Total Annual Burden on Respondents: 18,135 hours.

Estimated Total Annual Costs: $979,290.

Changes in Burden Estimates: This request reflects an increase of 11,704 hours (from 6,431 hours to 18,135 hours) in the total estimated respondent burden from that currently in the OMB inventory. This increase is primarily due to an increase in estimated managerial and technical staff time to review and evaluate data to determine section 8(e) reportability, as well as the incorporation of two additional factors not previously considered separately, based on industry comments on the proposed ICR published in the Federal Register. Estimated managerial and staff time to review and evaluate data was revised upward from 25 to 45 hours, considering that many large companies may depend on a committee or team rather than one person to decide whether data are reportable. The other factors added to the estimate of submitter reporting burden are staff training for TSCA 8(e) regulatory requirements (4 hours per submission) and taking into account the time and resources needed to review data that may not be ultimately reported (estimated to be 50% of the number of initial section 8(e) submissions). This change is an adjustment.

Dated: June 8, 2006.
Oscar Morales,
Director, Collection Strategies Division.

[FR Doc. 06-5469 Filed 6-15-06; 8:45 am]

BILLING CODE 6560-50-M